GENERAL SERVICES ADMINISTRATION

Notice of Availability and Announcement of Public Meeting for the Final Environmental Assessment for the Edward J. Schwartz Federal Building Structural Enhancements Project in San Diego, California

AGENCY: Public Building Service (PBS), General Services Administration (GSA).

ACTION: Notice of availability; announcement of public meeting.

SUMMARY: This notice announces the availability of the Final Environmental Assessment (EA) for the proposed structural enhancement improvements to the existing Edward J. Schwartz Federal Building and United States Courthouse located at 880 Front Street in San Diego, California (Project). The Final EA describes the reason the Project is being proposed; the alternatives that were evaluated; the potential impacts of each of the alternatives on the existing environment; and the proposed avoidance, minimization, and/or mitigation measures related to those alternatives. Based on its finding of no significant impacts, GSA has determined that an Environmental Impact Statement need not be prepared.

DATES: A public meeting to solicit comments and provide information about the Final EA will be held on Tuesday, August 20, 2019 from 4:00 p.m. to 7:00 p.m., Pacific Standard Time. Interested parties are encouraged to attend. The availability period for the Final EA ends on August 28th, 2019.

ADDRESSES: The public meeting will be held at Union Cowork East Village, 704 J Street, San Diego, CA 92101. Further information, including an electronic copy of the Final EA, may be found online on the following website: https://www.gsa.gov/about-us/regions/welcome-to-the-pacific-rim-region-9/buildings-and-facilities/california/edward-j-schwartz-federal-office-building#CurrentProjects.

Questions or comments concerning the Final EA should be directed to: Osmahn Kadri, Regional Environmental Quality Advisor/NEPA Project Manager, 50 United Nations Plaza, 3345, Mailbox #9, San Francisco, CA, 94102, or via email to osmahn.kadri@gsa.gov.

FOR FURTHER INFORMATION CONTACT: Osmahn Kadri, Regional Environmental Quality Advisor/NEPA Project Manager, GSA, at 415-522-3617. Please also call this number if special assistance is needed to attend and participate in the public meeting.

SUPPLEMENTARY INFORMATION:

Background

The Project is proposed in order to improve structural safety for the public traveling underneath the building and for the tenants occupying the building above the Front Street underpass, located at 880 Front Street in San Diego, California. The portion of Front Street that extends below the building is referred to as the Front Street underpass. The existing building has five stories of federal office building space spanning above the roadway and two levels of parking structure beneath the roadway.

The Final EA addresses the Proposed Action Alternative and the No Action Alternative. The Action Alternative consists of structural enhancement improvements to the portion of the existing Edward J. Schwartz Federal Building over Front Street between E and F streets. Existing columns and beams supporting the building at the Front Street underpass would be reinforced with new steel beams and column support structures and pre-cast concrete paneling. Construction would require full and partial closure of Front Street between Broadway and F Street. Street closure options during construction of the Action Alternative are being considered and a comprehensive Traffic Control Plan will be prepared in coordination with the City of San Diego to address the street closure.

The No Action Alternative assumes that structural enhancements to the existing building would not occur. The Draft EA was made publicly available on November 16, 2018 for a 30-day period. The public review period closed on December 17, 2018. The Notice of Availability for the Draft EA was published in the Federal Register at 83 FR 58252 on November 19, 2018. A public meeting took place on November 28, 2018 in the Downtown San Diego community. In preparing this Final EA, GSA considered public comments received regarding the Draft EA during the public review period.

After careful consideration of the environmental analysis and associated environmental effects of the Proposed Action Alternative and No Action Alternative, the purpose and need for the Project, and comments received on the Draft EA, GSA will be implementing the Proposed Action Alternative.

Finding

Pursuant to the provision of GSA Order ADM 1095.1F, the PBS NEPA Desk Guide, and the regulations issued by the Council on Environmental Quality (CEQ; 40 CFR parts 1500 to 1508), this notice advises the public of our finding that the Proposed Action will not significantly affect the quality of the human environment.

Basis for Finding

The environmental impacts of constructing the proposed structural enhancements were considered in the Final EA pursuant to the National Environmental Policy Act (NEPA) and the CEQ regulations implementing NEPA. No significant impacts on the environment would occur with implementation of best management practices and avoidance, minimization, and mitigation measures identified in the Final EA.

The Final EA is available for review at the San Diego Central Library, 330 Park Boulevard, San Diego, CA 92101. The Final EA and FONSI can also be viewed on the GSA website at https://www.gsa.gov/real-estate/environmental-programs/gsa-nepa-implementation/nepa-library.

The Finding of No Significant Impact will be signed thirty (30) days after the publication of this notice, provided that no information leading to a contrary finding is received or comes to light during this period.

Dated: July 24, 2019.
Jared Bradley,
Director, Portfolio Management Division, Pacific Rim Region, Public Buildings Service.

[FR Doc. 2019-16134 Filed 7-29-19; 8:45 am]

BILLING CODE 6820-YF-P